DEPARTMENT OF HEALTH AND HUMAN SERVICES

Health Resources and Services Administration

Availability of Funds for Grants for the Community Access Program

AGENCY: Health Resources and Services Administration, HHS.

ACTION: Notice of availability of funds.

SUMMARY: The Health Resources and Services Administration (HRSA) announces the availability of funding to assist communities and their safety net providers in developing integrated health care delivery systems that serve the uninsured and underinsured with greater efficiency and improved quality of care. This funding is part of the $105 million appropriated for the Community Access Program (CAP) under the fiscal year 2002 Health and Human Services Appropriations Act. Up to $20 million will be available as 1-year CAP grants with the possibility of supplemental funding depending on performance and funding availability. Current annual awards to communities average about $900,000 per award, and range from approximately $150,000 to $1.2 million. Applicants are encouraged to propose total budgets in this range.

The purpose of this program is to assist communities and consortia of health care providers, faith-based organizations and others to support the infrastructure necessary to fully develop or strengthen integrated health systems of care that coordinate health services for the uninsured and underinsured. The goals are to increase access to care, generate system-wide efficiency and cost savings, and improve health in targeted populations. The coordination of services through the CAP grant will allow the uninsured and underinsured to receive more efficient and higher quality care and gain entry into a comprehensive system of care. The system will be characterized by effective collaboration, information sharing, and clinical and financial coordination among all levels of care in the community network.

DATES: The timeline for application submission, review and award is as follows:

Application kits and additional guidance are available through the HRSA Grants Application Center (GAC).

May 7, 2002—Applications due.

June-2002—Applications reviewed.

July-August—Site visits to selected applicants.

September 2002—Grant awards announced.

ADDRESSES: To receive a complete application kit (i.e., application instructions, necessary forms, and application review criteria), contact the HRSA GAC at:

Health Resources and Services Administration Grants Application Center COMMUNITY ACCESS PROGRAM: CFDA #93.252, 901 Russell Avenue, Suite 450, Gaithersburg, MD 20879, Phone: 1-877--HRSA-123, Fax: 1-877-HRSA-345. E-mail: hrsagac@hrsa.gov.

FOR FURTHER INFORMATION CONTACT: Community Access Program Office, Health Resources and Services Administration, 4350 East West Highway, 3rd Floor, Bethesda, Maryland 20854, Phone: 301-443-0536, Fax: 301-443-0248. E-mail: capcentral@hrsa.gov.

SUPPLEMENTARY INFORMATION:

Program Description

The program has been in existence since FY 2000 with 136 projects funded to date. Many communities supported by earlier grants have already taken action to meet the health needs of all their residents. There are many exciting, dynamic models. Each of the existing CAP communities has created a project that addresses its own needs. We are interested in funding new communities that plan to generate better health for more people at less cost.

There is no one successful model that we are trying to replicate. Some successful communities:

• Have a project design that builds on its current capacities and strengths.

• Build coalitions that include the major players in the political and health delivery systems.

• Use Federal funds to plan a transition to an expanded approach that will be competitive within its own market.

• Have a plan for sustainability after Federal funds expire.

• Have a coalition that works with its county board, city council, State legislature and State health programs to ensure coordination and efficient use of all available resources.

CAP requires a coalition/collaboration of partners that includes primary, secondary and preventive care. The coalition/collaboration should include the providers of safety net services who currently serve the community. Many existing CAP coalitions have:

• Coordinated the provision of care through public hospitals, public health departments, and Federally Qualified Health Centers and existing other federally funded programs like Healthy Start and Ryan White;

• Included a strong linkage with social service organizations and faith-based programs.

• Linked hospital and clinic services using state of the art information technology.

• Developed management systems that allow transitions between Medicaid, uninsured, and insured status for low income populations to reduce administrative burden on providers.

• Created networks to ensure a primary care home for uninsured persons and distributed the caseloads among all providers.

• Linked mental health and substance abuse services to primary care.

• Ensured partnership with the local business community.

• Addressed service gaps by expanding health centers.

Although there are many models emerging, these are not really common characteristics but are “issues frequently addressed.” They are:

• Common enrollment systems.

• Standardized financial eligibility.

• Agreement about sliding fee scales.

• Coordination of services among providers.

• Ensured primary care or medical homes.

• Provision of specialty services.

• Automated appointment systems.

• Case management services.

• Strategies for affordable pharmaceutical services.

• Disease management programs across the array of community providers.

• Outreach to hard-to-enroll populations.

• Information systems to implement the desired strategies.

• Included use of local taxing authorities and redirected funds within the system to provide for sustainability.

These communities are demonstrating that these changes are possible and they are reporting the results of their efforts across the Nation. They are communities with clear goals, an operational plan for meeting these goals, a history of commitment to serving indigent populations, and a track record to indicate a reasonable chance of success.

Eligible Applicants

To encourage the development of different models, this program seeks a variety of applicants representing all types of communities. Applicants who receive funding may be large health care systems or small organizations. Applications are encouraged from urban areas, rural communities, tribal organizations, and faith-based communities.

Applications may be submitted by public and private non-profit entities that demonstrate a commitment to and experience with providing a coordinated continuum of care to uninsured individuals. Each applicant must represent a community-wide coalition that is committed to the project and includes safety net providers (where they exist) who have traditionally provided care to the community's uninsured and underinsured regardless of ability to pay. The community-wide coalition must consist of partners from all levels of care and partners who represent a range of services (e.g., mental health and substance abuse treatment, maternal and child health care, oral health, HIV/AIDS care) to a wide variety of populations. Coalitions are encouraged to include partners from private industry, faith-based organizations, and other organizations within communities.

Examples of eligible applicants which may apply on behalf of the community-wide coalition include, but are not limited to:

• A consortium or network of providers (e.g., public and charitable hospitals; community, migrant, homeless, public housing, and school-based health centers; rural health clinics; free health clinics; teaching hospitals and academic institutions).

• Local government agencies (e.g., local public health departments with service delivery components).

• Tribal governments.

• Managed care plans or other payers (e.g., HMOs).

• Agencies of State government, multi-State health systems, or other groups may submit applications on behalf of multiple communities if they demonstrate the ability to coordinate community health care delivery systems and bring resources to the community.

Existing CAP grantees are not eligible to apply for this funding.

Application Review and Funding Criteria

Each of the applications that has passed an eligibility and conformance review by Federal staff will be assigned to members of an Objective Review Committee (ORC) for review. Members of the ORC will use the following evaluation criteria in their review of applications:

1. Community Needs Assessment—Evidence that the target population has significant need (20 Points).

2. Business Plan to Produce Defined Results—Clarity and scope of projected results in terms of increased access to culturally competent care and/or health status for the target population, and alignment of these projected results with organizational capacity, a clear and accountable set of activities, operational plan and budget (30 Points).

3. Service Integration Strategy & Readiness—Integration of appropriate health and other services across the community of providers and organizations, readiness, evidence of progress towards developing an integrated system of care for the target population, and scope and quality of services (25 Points).

4. Sustainability—Demonstration of existing and sustainable public or private funding sources or cost-savings to be generated and reinvested in the system of care (15 Points).

5. Evaluation—Robust self-evaluation plan, specific performance measures, and strong commitment to participation in a national evaluation (10 Points).

A Validation Site Visit will be conducted prior to final award decisions of those applicants recommended by the ORC for funding. Site visits are expected to occur in the July/August timeframe.

Use of Grant Funds

Funding provided through this program may NOT be used to substitute for or duplicate funds currently supporting similar activities. Grant funds may support costs such as:

• Project staff salaries.

• Consultant support.

• Management information systems (e.g., hardware and software).

• Project-related travel.

• Replication activities and travel to support peer-to-peer learning communities.

• Other direct expenses necessary for the integration of administrative, clinical, information system, or financial functions.

• Program evaluation activities.

• Case management and disease management activities that are not reimbursable services.

With appropriate justification on why funds are needed to support the following costs, up to a total of 15 percent in total of grant funds applied for may be used for any combination of the following:

• Alteration or renovation of facilities.

• Primary care site development.

• Service expansions or direct patient care.

(Direct patient care is defined as provision of services or supplies that are ordinarily reimbursable, e.g., exams, therapy sessions, pharmaceuticals.)

• Capital equipment used for reimbursable services (e.g., radiology equipment, ambulances).

Grant funds may NOT be used for:

• Construction.

• Reserve requirements for state insurance licensure.

Expected Results

The integration and coordination of services among a community's safety net providers are expected to result in:

• Increased access to culturally competent care in terms of measures such as: numbers of vulnerable people served, the scope and continuity of provided services, the number of new access points such as health center expansions or new sites, and other;

• Improved health status in the target population;

• A sustainable system that provides coordinated care to the target population; and,

• Elimination of unnecessary, duplicate functions in service delivery and administrative functions, resulting in cost savings to reinvest in the system.

Dated: March 12, 2002.
Elizabeth M. Duke,
Administrator.

[FR Doc. 02-6707 Filed 3-19-02; 8:45 am]

BILLING CODE 4165-15-P